OFFICE OF MANAGEMENT AND BUDGET

Privacy Act of 1974; System of Records

AGENCY: Office of Management and Budget.

ACTION: Notice of a new system of records (SORN).

SUMMARY: Pursuant to the Privacy Act of 1974 and Office of Management and Budget Circular No. A-108, Federal Agency Responsibilities for Review, Reporting, and Publication under the Privacy Act, notice is hereby given that the Office of Management and Budget (OMB) is establishing the following new system of records: “OMB Human Capital System, OMB/OMB/PERSL/02.” This system covers all information pertaining to OMB's human capital operations and services that is neither covered by relevant existing Government-wide systems of records notices (e.g., OPM/GOVT-1, 2, 3, 5, 6, 7, 9, and 10; DOL/GOVT-1; EEOC/GOVT-1; and MSPB-GOVT-1) nor maintained by the Office of Administration and are therefore exempt from the Privacy Act requirements.

DATES: In accordance with 5 U.S.C. 552a(e)(4) and (11), this system of records is effective upon its publication in today's Federal Register, with the exception of the routine uses, which are subject to a 30-day comment period, and will be effective October 21, 2024. Please submit any comments on or before October 21, 2024.

ADDRESSES: You may submit comments through regulations.gov.

Instructions: All submissions must contain the subject heading “OMB Human Capital System.”

Privacy Act Statement: OMB is issuing this proposed System of Records Notice pursuant to 5 U.S.C. 552a. Submission of comments is voluntary. Information you provide will be used to inform sound decision-making regarding this proposed notice. Please note that all submissions received in response to this notice may be posted on https://www.regulations.gov/ or otherwise released in their entirety, including any personal and business confidential information provided. Do not include in your submissions any copyrighted material; information of a confidential nature, such as personal or proprietary information; or any information you would not like to be made publicly available. The OMB System of Records Notice, OMB Public Input System of Records, OMB/INPUT/01, 88 FR 20913, July 4, 2023 (https://www.federalregister.gov/documents/2023/04/07/2023-07452/privacy-act-of-1974-system-of-records), includes a list of routine uses associated with the collection of this information.

FOR FURTHER INFORMATION CONTACT: For questions about this proposed SORN, please contact Shraddha A. Upadhyaya by email at SORN@omb.eop.gov or (202) 395-9225. You must include “OMB Human Capital System” in the subject line.

SUPPLEMENTARY INFORMATION:

I. Background

In accordance with the Privacy Act of 1974, 5 U.S.C. 552a, and the Office of Management and Budget (OMB), Circular No. A-108, OMB proposes to create a new system of records for OMB titled, “OMB Human Capital System of Records, OMB/OMB/PERSL/02 (OMB Human Capital System).”

The OMB Human Capital System covers all information pertaining to OMB's human capital operations and services that is neither covered by relevant existing Government-wide systems of records notices (e.g., OPM/GOVT-1, 2, 3, 5, 6, 7, 9, and 10; DOL/GOVT-1; EEOC/GOVT-1; and MSPB-GOVT-1) nor maintained by the Office of Administration and are therefore exempt from the Privacy Act requirements. The OMB functions covered by this system include OMB's services and operations related to:

• OMB's mentorship and coaching programs.

• OMB's learning and development programs.

• Employee work schedules and attendance, including telework and remote work agreements.

• OMB's participation in the Federal Pathways Programs, including Internships, Recent Graduates, and Presidential Management Fellows program, as well as OMB-specific internship programs.

• Reasonable accommodation requests.

• Diversity, Equity, Inclusion, and Accessibility and Equal Employment Opportunity programming and outreach. Additionally, Employee Resource Groups, and other similar employee affinity or social groups hosted or supported by OMB.

• Records related to any informal or formal internal investigations conducted in support of OMB or Executive Office of the President (EOP) internal personnel or workplace policies or procedures.

• Records addressing employee issues or complaints internal to OMB, not a part of the Equal Employment Opportunity Commission (EEOC) or Merit Systems Protection Board (MSPB) complaint processes.

• Transportation benefits records.

• Resume banks.

• Recruiting outreach and events, including job fairs.

In accordance with 5 U.S.C. 552a(r), OMB has provided a report of this new system of records to OMB and to Congress.

Below is the description of the OMB Human Capital System.

SYSTEM NAME AND NUMBER:

OMB Human Capital System of Records, OMB/OMB/PERSL/02

SECURITY CLASSIFICATION:

Unclassified.

SYSTEM LOCATION:

Records are maintained at OMB, 725 17th Street NW, Washington, DC, 20503.

SYSTEM MANAGER(S):

Sarah W. Spooner, 725 17th Street NW, Washington, DC; Sarah.W.Spooner@omb.eop.gov.

AUTHORITY FOR MAINTENANCE OF THE SYSTEM:

31 U.S.C. ch. 5; 5 U.S.C. 3101; E.O. 13150 (April 21, 2000); 26 U.S.C. 132(f); Federal Employees Clean Air Incentives Act, Public Law 103-172, 5 U.S.C. 7905, as amended; The Rehabilitation Act of 1973, Public Law 93-112, 29 U.S.C. 701 et seq., as amended; The Americans with Disabilities Act of 1990, Public Law 101-336, 42 U.S.C. 12101 et seq., as amended; title VII of the Civil Rights Act, 42 U.S.C. 2000e-16; The Family and Medical Leave Act of 1993, 29 U.S.C. 2601 et seq.; E.O. 13164 (July 26, 2000); E.O. 13548 (July 26, 2010); E.O. 13562 (December 27, 2010); 5 U.S.C. 3304; E.O. 14035 (June 25, 2021); Telework Enhancement Act of 2010, Public Law 111-292, 5 U.S.C. ch. 65; 5 U.S.C. subpart E; 5 U.S.C. ch. 41; 5 U.S.C. 3101-3116); E.O. 9397, as amended by E.O. 13478.

PURPOSE(S) OF THE SYSTEM:

OMB performs a wide array of activities related to human capital needs for prospective, current, and former OMB employees who utilize the services and programs described below and those members of the public who request reasonable accommodations.

CATEGORIES OF INDIVIDUALS COVERED BY THE SYSTEM:

Categories of individuals may include all prospective, current and former employees, volunteers, grantees, contract employees, detailees, and Pathways Program participants at OMB, compensated or uncompensated; individuals who attend or register to attend OMB events; and members of the public who request reasonable accommodations. The system of records covers individuals who apply for and/or otherwise participate in the following programs or services:

• OMB's mentorship and coaching programs.

• OMB's learning and development programs.

• Employee work schedules and attendance, including telework and remote work agreements.

• OMB's participation in the Federal Pathways Programs, including Internships, Recent Graduates, and Presidential Management Fellows program, as well as OMB-specific internship programs.

• Reasonable accommodation requests.

• Diversity, Equity, Inclusion, and Accessibility and Equal Employment Opportunity programming and outreach. Additionally, Employee Resource Groups, and other similar employee affinity or social groups hosted or supported by OMB.

• Records related to any informal or formal internal investigations conducted in support of OMB or EOP internal personnel or workplace policies or procedures.

• Records addressing employee issues or complaints internal to OMB, not a part of the EEOC or MSPB processes.

• Transportation benefits records.

• Resume banks.

• Recruiting outreach and events, including job fairs.

CATEGORIES OF RECORDS IN THE SYSTEM:

This system includes records related to the programs and services itemized immediately above. Records in this system contain all or some of the following data: individual's name, physical address, email address, educational affiliation, social security number, position level, pay plan, grade, series, supervisor, organization which employed, building, room, telephone number, mode of transportation to duty location and commuting costs, history of internal/external training attended and other learning and development activities, associated training costs, competencies needed to perform a job, discipline or occupational identification, skill strengths and skill development and needs, disability and requests for reasonable accommodations, self-identification of affiliation with an employee resource group, or attendance or anticipated attendance at OMB events.

RECORD SOURCE CATEGORIES:

OMB receives records from OMB employees and from members of the public, including representatives of Federal, State, or local governments, non-government organizations, and the private sector, as well as from other Federal agencies and entities.

ROUTINE USES OF RECORDS MAINTAINED IN THE SYSTEM, INCLUDING CATEGORIES OF USERS AND PURPOSES OF SUCH USES:

In addition to those disclosures generally permitted under the Privacy Act, 5 U.S.C. 552a(b), all or a portion of the records or information contained therein may be disclosed outside of OMB as a routine use pursuant to 5 U.S.C. 552a(b)(3) as follows:

A. To a course or learning provider for enrollment purposes and to ensure appropriate payments are being made to employees requesting reimbursement of their expenses.

B. To the Office of Personnel Management (OPM) for the purpose of OPM's Federal performance management operations, as authorized by law, but only such information as is necessary and relevant to such operations.

C. To appropriate agencies and entities, for the purpose of resolving an inquiry regarding compliance with the Freedom of Information Act.

D. To appropriate agencies and entities that participate in providing the programs or services described above, when OMB affirmatively determines the information in this system of records is reasonably necessary to effectuate the individual's participation in the program.

E. To the Department of Justice (DOJ) when any of the following is a party to litigation before any court, adjudicative, or administrative body or has an interest in such litigation, and the use of such records by DOJ is deemed by OMB to be relevant and necessary to the litigation:

(1) OMB, or any component thereof;

(2) any employee or former employee of OMB in the employee's official capacity;

(3) any employee or former of employee of OMB in the employee's individual capacity where DOJ has agreed to represent the employee; or

(4) a Federal agency, a Federal entity, a Federal official, or the United States, where OMB determines that litigation is likely to affect OMB or any of its components.

F. In a proceeding before a court or adjudicative body before which OMB is authorized to appear, when OMB determines that the records are relevant and necessary to the litigation; or in an appropriate proceeding before an administrative or adjudicative body when the adjudicator determines the records to be relevant to the proceeding.

G. To a congressional office in response to an inquiry from that congressional office made at the request of the individual to whom the record pertains.

H. To any agency or organization for the purpose of performing audit or oversight operations as authorized by law, but only such information as is necessary and relevant to such audit or oversight function. To any agency or organization for the purpose of performing audit, oversight, or investigative functions as authorized by law, but only such information as is necessary and relevant to such audit, oversight, or investigative function.

I. To the National Archives and Records Administration (NARA) for purposes of records management and mail processing inspections conducted under the authority of 44 U.S.C. 2904 and 2906.

J. To NARA, Office of Government Information Services (OGIS), to the extent necessary to fulfil its responsibilities in 5 U.S.C. 552(h), to review administrative agency policies, procedures, and compliance with the Freedom of Information Act, and to facilitate OGIS' offering of mediation services to resolve disputes between persons making FOIA requests and administrative agencies.

K. To appropriate officials and employees of a Federal agency or entity when the information is relevant to a decision concerning the hiring, appointment, or retention of an employee; the assignment, detail, or deployment of an employee; the issuance, renewal, suspension, or revocation of a security clearance; the execution of a security or suitability investigation; the letting of a contract; or the issuance of a grant or benefit.

L. To appropriate agencies, entities, and persons when

(1) OMB suspects or has confirmed that there has been a breach of the system of records;

(2) OMB has determined that as a result of the suspected or confirmed breach there is a risk of harm to individuals, OMB (including its information systems, programs, and operations), the Federal Government, or national security; and

(3) the disclosure made to such agencies, entities, and persons is reasonably necessary to assist in connection with OMB's efforts to respond to the suspected or confirmed breach or to prevent, minimize, or remedy such harm.

M. To another Federal agency or Federal entity, when OMB determines that information from this system of records is reasonably necessary to assist the recipient agency or entity in

(1) responding to a suspected or confirmed breach; or

(2) preventing, minimizing, or remedying the risk of harm to individuals, the recipient agency or entity (including its information systems, programs, and operations), the Federal Government, or national security, resulting from a suspected or confirmed breach.

N. Where a record, either alone or in conjunction with other information, indicates a violation or potential violation of law—criminal, civil, or regulatory in nature—the relevant records may be referred to the appropriate Federal, State, local, territorial, Tribal, international, or foreign law enforcement authority or other appropriate entity charged with the responsibility for investigating or prosecuting such violation or charged with enforcing or implementing such law.

O. To contractors and their agents, grantees, experts, consultants, students, and others performing or working on a contract, service, grant, cooperative agreement, or other assignment for OMB, when necessary to accomplish an agency function related to this system of records. Individuals provided information under this routine use are subject to the same requirements and limitations on disclosure as are applicable to OMB officers and employees.

P. To such recipients and under such circumstances and procedures as are mandated by Federal statute or treaty.

POLICIES AND PRACTICES FOR STORAGE OF RECORDS:

Records in this system are stored in electronic or paper form in secure facilities. The records may be stored on magnetic disc, tape, and digital media.

POLICIES AND PRACTICES FOR RETRIEVAL OF RECORDS:

Records may be retrieved by full-text search or by individuals' name, title, organization, or other programmatic identifier assigned to the individual about whom they are maintained.

POLICIES AND PRACTICES FOR RETENTION AND DISPOSAL OF RECORDS:

These records will be retired and destroyed in accordance with published records schedules of the Office of Management and Budget and the General Records Schedules as approved by NARA.

ADMINISTRATIVE, TECHNICAL, AND PHYSICAL SAFEGUARDS:

All electronic records are maintained in secure systems which require multi-factor authentication and that use security hardware and software to include multiple firewalls, encryption, identification, and authentication of users. All security controls are reviewed on a periodic basis by external assessors. The controls themselves include measures for access control, security awareness training, audits, configuration management, contingency planning, incident response, and maintenance. Access to the information technology systems containing the records in this system is limited to those individuals who need the information for the performance of their official duties and who have appropriate clearances or permissions.

RECORD ACCESS PROCEDURES:

Individuals' requests for access to records should be directed to the system manager. Individuals seeking access to their records in this system of records may submit a request by following the instructions provided in 5 CFR part 1302.

CONTESTING RECORD PROCEDURES:

Individuals' requests for amendment of a record in this system of records should be directed to the system manager. Individuals seeking access to their records in this system of records may submit a request by following the instructions provided in 5 CFR part 1302.

NOTIFICATION PROCEDURES:

Individuals' requests for notification as to whether this system of records contains a record pertaining to them should be directed to the system manager. Individuals seeking access to their records in this system of records may submit a request by following the instructions provided in 5 CFR part 1302.

EXEMPTIONS PROMULGATED FOR THE SYSTEM:

This system contains testing and examination materials used solely to determine individual qualifications for appointment or promotion in the Federal service. The Privacy Act, at 5 U.S.C. 552a(k)(6), permits an agency to exempt all such testing or examination material and information from certain provisions of the Act, when disclosure of the material would compromise the objectivity or fairness of the testing or examination process. OMB has claimed exemptions from the requirements of 5 U.S.C. 552a(d), which relate to access to and amendment of records.

The specific material exempted may include, but is not limited to, the following

a. Answer keys.

b. Assessment center exercises.

c. Assessment center exercise reports.

d. Assessor guidance material.

e. Assessment center observation reports.

f. Assessment center summary reports.

g. Other applicant appraisal methods, such as performance tests, work samples and simulations, miniature training and evaluation exercises, structured interviews, and their associated evaluation guides and reports.

h. Item analyses and similar data that contain test keys and item response data.

i. Ratings given for validating examinations.

j. Rating schedules, including crediting plans and scoring formulas for other selection procedures.

k. Rating sheets.

l. Test booklets, including the written instructions for their preparation and automated versions of tests and related selection materials and their complete documentation.

m. Test item files.

n. Test answer sheets.

HISTORY:

None.

Shraddha A. Upadhyaya,
Senior Agency Official for Privacy, Office of Management and Budget.

[FR Doc. 2024-20986 Filed 9-19-24; 8:45 am]

BILLING CODE 3110-01-P